DEPARTMENT OF COMMERCE

National Oceanic and Atmospheric Administration

50 CFR Part 660

[Docket No. 180625576-8999-02]

RIN 0648-BK14

Magnuson-Stevens Act Provisions; Fisheries Off West Coast States; Pacific Coast Groundfish Fishery; 2019-2020 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. This action is intended to allow commercial fishing vessels to access more abundant groundfish stocks while protecting rebuilding and depleted stocks.

DATES: This final rule is effective October 19, 2020.

FOR FURTHER INFORMATION CONTACT: Gretchen Hanshew, phone: 206-526-6147 or email: Gretchen.Hanshew@noaa.gov.

Electronic Access

This rule is accessible via the internet at the Office of the Federal Register website at https://www.federalregister.gov. Background information and documents are available at the Pacific Fishery Management Council's website at http://www.pcouncil.org/.

SUPPLEMENTARY INFORMATION:

Background

The Pacific Coast Groundfish Fishery Management Plan (PCGFMP) and its implementing regulations at 50 CFR part 660, subparts C through G, regulate fishing for over 90 species of groundfish off the coasts of Washington, Oregon, and California. The Pacific Fishery Management Council (Council) develops groundfish harvest specifications and management measures for two-year periods (i.e., a biennium). NMFS published the final rule to implement harvest specifications and management measures for the 2019-2020 biennium for most species managed under the PCGFMP on December 12, 2018 (83 FR 63970).

Pacific Coast groundfish fisheries are managed using harvest specifications or limits (e.g., overfishing limits [OFL], acceptable biological catch [ABC], annual catch limits [ACL] and harvest guidelines [HG]) based on the best scientific information available at that time (50 CFR 660.60(b)). The harvest specifications and management measures developed for the 2019-2020 biennium used data through the 2017 fishing year. In general, the management measures (e.g., trip limits, area closures, and bag limits) set at the start of the biennial harvest specifications cycle help catch in the various sectors of the fishery reach, but not exceed, the limits for each stock. The Council, in coordination with Pacific Coast Treaty Indian Tribes and the States of Washington, Oregon, and California, recommends adjustments to the management measures during the fishing year to achieve this goal. At its September 11, and 14-18, 2020 webinar, the Council recommended increasing the limited entry fixed gear (LEFG) and open access (OA) trip limits for sablefish north of 36° North latitude (N lat.) and increasing the incidental landing limit for Pacific halibut in the LEFG primary sablefish fishery. Each of the adjustments discussed below are based on updated fisheries information that was unavailable when the Council completed the initial analysis for the current harvest specifications.

Since spring 2020, declines in Asian markets and restrictions for domestic restaurants, among other factors, have led to a decline in markets and therefore an overall decline in fishing effort. The combination of these factors has resulted in estimated year-end catches that are lower than was anticipated under normal market conditions. The following changes were requested by industry to increase access to available harvestable quotas for sablefish and incidentally caught Pacific halibut.

Increases to Limited Entry Fixed Gear and Open Access Trip Limits for Sablefish

Sablefish is an important commercial species on the west coast with vessels targeting sablefish using both trawl and fixed gear (longlines and pots/traps). Sablefish is managed with a coast-wide ACL that is apportioned north and south of 36° N lat. with 73.8 percent going to the north and 26.2 percent going to the south. In 2020, the portion of the ACL for sablefish north of 36° N lat. is 5,723 mt with a commercial HG of 5,113 mt. The commercial HG north of 36° N lat. is further divided between the limited entry and OA sectors with 90.6 percent, or 4,632 mt, going to the limited entry sector and 9.4 percent, or 481 mt, going to the OA sector. The limited entry share of the commercial HG is further divided between trawl (58 percent, or 2,687 mt), and fixed gear (42 percent, or 1,946 mt). The limited entry fixed gear share is further divided between the primary (85 percent, or 1,654 mt), and daily trip limit (15 percent, or 292 mt) fisheries.

Sablefish north of 36° N lat. is anticipated to have catches through the end of the year lower than anticipated at the start of the 2020 fishery, resulting in sablefish harvest of approximately 71 percent of the sablefish north ACL.

At the September 2020 Council meeting, members of industry requested increases to sablefish trip limits to address the lower than anticipated harvest of sablefish in 2020. Under the current trip limits, total catch in the LEFG and OA fisheries north of 36° N lat. is projected to be less than 172 mt, or 62 percent of the LEFG catch share, and less than 237 mt, or 52 percent of the OA catch share. Increasing the trip limits as described in Option 2, Table 1, for the LEFG and OA fisheries north of 36° N lat. for the remainder of the fishing year is projected to increase total mortality. Harvest in the LEFG fishery may increase by 69 mt, or 89 percent of the LEFG catch share, and in the OA fishery by 32 mt, or 67 percent of the OA catch share. The trip limit changes are described in Table 1.

Trip limit increases for sablefish are intended to allow for increased attainment of the limited entry fixed gear and open access harvest guidelines (4,631 mt and 481 mt, respectively), by allowing for increased harvest opportunities from October through December 2020. Increasing the trip limits is expected to increase total mortality by approximately 100 mt. Sablefish harvest through the end of the year is still expected to be below the ACL, with harvest of approximately 73 percent of the 5,723 mt ACL for Sablefish north of 36° N lat. Therefore, the Council recommended and NMFS is implementing, by modifying Tables 2 (North) and 2 (South) to part 660, Subpart E, an increase to sablefish trip limits for the LEFG fishery north of 36° N lat. to “2,500 lb (1,134 kg)/week, not to exceed 7,500 lb (3,402 kg)/2 months” and, by modifying Tables 3 (North) and 3 (South) to part 660, Subpart F, an increase to the sablefish trip limits for the OA fishery north of 36° N lat. to “600 lb (272 kg)/day or one landing per week up to 2,000 lb (907 kg), not to exceed 4,000 lb (1,814 kg)/2 months”.

Increases to Limited Entry Fixed Gear Incidental Landing Limits for Pacific Halibut

Under the authority of the Northern Pacific Halibut Act of 1982, the Council developed a Catch Sharing Plan for the International Pacific Halibut Commission Regulatory Area 2A. The Catch Sharing Plan allocates the Area 2A annual total allowable catch (TAC) among fisheries off Washington, Oregon, and California. Pacific halibut is generally a prohibited species for vessels fishing in Pacific coast groundfish fisheries, unless explicitly allowed in groundfish regulations and authorized by the Pacific halibut Catch Sharing Plan. In years where the Pacific halibut TAC is above 900,000 lb (408 mt), the Catch Sharing Plan allows the LEFG sablefish primary fishery an incidental retention limit for Pacific halibut north of Point Chehalis, WA (46°53.30′ N lat.).

On May 1, 2020, NMFS implemented a 2020 Area 2A TAC of 1,500,000 lb (680.4 mt) (85 FR 25317; May 1, 2020). Consistent with the provisions of the Catch Sharing Plan, the LEFG sablefish primary fishery north of Pt. Chehalis, WA has an incidental total catch limit of 70,000 lb (31.8 mt) for 2020. Current regulations at § 660.231(b)(3)(iv) provide for Pacific halibut retention by vessels fishing in the LEFG sablefish primary fishery from April 1 through October 31 with a landing limit of 200 lb (91 kg) dressed weight of Pacific halibut, for every 1,000 lb (454 kg) dressed weight of sablefish landed, and up to an additional two Pacific halibut in excess of this limit.

At the September 2020 Council meeting, members of industry requested increases to the landing limit for incidentally caught Pacific halibut in the sablefish primary fishery north of Point Chehalis, WA (46°53.30′ N lat.). As noted above, overall fishing effort for sablefish has been lower than expected this year, and so has the incidental harvest of Pacific halibut in this fishery. Under the current incidental landing limit, total catch of Pacific halibut in this fishery through the end of the season is projected to be less than 65,000 lbs, or 93 percent of the allocation (70,000 lbs or 31,751 kg). Increasing the incidental landing limit as described in Option 2, Table 2, for the remainder of the fishing season, scheduled to close at noon on October 31, is projected to increase total mortality to over 69,000 lbs, or 99 percent of the allocation.

Incidental landing limit increases for Pacific halibut are intended to allow for more Pacific halibut to be retained and landed for vessels targeting sablefish in the primary sablefish fishery north of Point Chehalis, WA. Under the Council's recommendation, increasing the trip limits is expected to increase landings by up to 4,500 lbs (2,041 kg). This is expected to allow increased attainment of the Pacific halibut allocation which would otherwise be discarded. Therefore, in order to allow increased incidental Pacific halibut catch in the sablefish primary fishery, the Council recommended and NMFS is revising incidental Pacific halibut retention regulations at § 660.231(b)(3)(iv) to increase the catch limit to “250 lb (113 kg) dressed weight of halibut for every 1,000 lb (454 kg) dressed weight of sablefish landed and up to two additional halibut in excess of the 250 lb (113 kg) per 1,000 lb (454 kg) limit per landing.”

Classification

This action is taken under the authority of 50 CFR 660.60(c) and the Northern Pacific Halibut Act of 1982 and is exempt from review under Executive Order 12866.

The aggregate data upon which these actions are based are available for public inspection by contacting Gretchen Hanshew in NMFS West Coast Region (see FOR FURTHER INFORMATION CONTACT, above), or view at the NMFS West Coast Groundfish website: https://www.fisheries.noaa.gov/species/west-coast-groundfish.

Pursuant to 5 U.S.C. 553(b), NMFS finds good cause to waive prior public notice and an opportunity for public comment on this action, as notice and comment would be impracticable and contrary to the public interest. The adjustments to management measures in this document ease restrictive trip limits on commercial fisheries in Washington, Oregon, and California to allow fisheries to harvest more fish while still staying within harvest limits. No aspect of this action is controversial, and changes of this nature were anticipated in the final rule for the 2019-2020 harvest specifications and management measures which published on December 12, 2018 (83 FR 63970).

At its September 2020 webinar, the Council recommended the increases to the commercial trip limits for the LEFG and OA sectors be implemented as soon as possible so that harvesters may be able to take advantage of these higher limits before the end of the year. Each of the adjustments to commercial management measures in this rule will create more harvest opportunity and allow fishermen to catch species that are currently under attained without causing any impacts to the fishery that were not anticipated during development of the 2019-20 biennial harvest specifications. Each of these recommended adjustments also rely on new catch data that were not available and thus not considered during the 2019-2020 biennial harvest specifications process. New catch information through summer 2020 was used to inform model projections. Models estimate that attainment of sablefish will be low in 2020 and, even with these increases to trip limits, most sectors are unlikely to come close to attaining their shares of the sablefish ACL. These adjustments to LEFG and OA fishery trip limits could provide up to an additional $885,000 in ex-vessel revenue to harvesters off Washington, Oregon, and California. Based on recent fishery data, best estimates also indicate that the sablefish primary fishery will not harvest its entire share of the Area 2A Pacific halibut total allowable catch. These adjustments to Pacific halibut management measures could provide up to an additional $13,500 in ex-vessel revenue to harvesters fishing off the Washington coast.

Additional economic benefits would also be seen for processors and the fishing support businesses; however, these are more difficult to quantify. Delaying implementation to allow for public comment would likely reduce the economic benefits to the commercial fishing industry and the businesses that rely on that industry. If the notice and comment rulemaking process took 90 days to complete, the increase would not be in place until December when the fishing year is almost over. Therefore, providing a comment period for this action could limit the economic benefits to the fishery, and would hamper the achievement of optimum yield from the affected fisheries.

The NMFS finds reason to waive the 30-day delay in effectiveness pursuant to 5 U.S.C. 553(d)(1) so that this final rule may become effective upon publication in the Federal Register. The adjustments to management measures in this document affect commercial fisheries by increasing opportunity and relieving participants of the more restrictive trip limits. These adjustments were requested by the Council's advisory bodies, as well as members of industry during the Council's September 2020 meeting, and recommended unanimously by the Council. No aspect of this action is controversial, and changes of this nature were anticipated in the biennial harvest specifications and management measures established through a notice and comment rulemaking for 2019-2020 (82 FR 63970; December 12, 2018).

List of Subjects in 50 CFR Part 660

Fisheries, Fishing, and Indian Fisheries.

Dated: October 14, 2020.
Jennifer M. Wallace,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. In § 660.231, paragraph (b)(3)(iv) is revised to read as follows:

§ 660.231 Limited entry fixed gear sablefish primary fishery.

* * * * *

(b) * * *

(3) * * *

(iv) Incidental Pacific halibut retention north of Pt. Chehalis, WA (46°53.30′ N lat.). From April 1 through October 31, vessels authorized to participate in the sablefish primary fishery, licensed by the International Pacific Halibut Commission for commercial fishing in Area 2A (waters off Washington, Oregon, California), and fishing with longline gear north of Pt. Chehalis, WA (46°53.30′ N lat.) may possess and land up to 250 lbs (113 kg) dressed weight of Pacific halibut for every 1,000 lbs (454 kg) dressed weight of sablefish landed and up to two additional Pacific halibut in excess of the 250-lbs-per-1,000-pound limit per landing. “Dressed” Pacific halibut in this area means halibut landed eviscerated with their heads on. Pacific halibut taken and retained in the sablefish primary fishery north of Pt. Chehalis may only be landed north of Pt. Chehalis and may not be possessed or landed south of Pt. Chehalis.

* * * * *

3. Table 2 (North) to part 660, subpart E is revised to read as follows:

BILLING CODE 3510-22-P

4. Table 2 (South) to part 660, subpart E is revised to read as follows:

5. Table 3 (North) to part 660, subpart F is revised to read as follows:

6. Table 3 (South) to part 660, subpart F is revised to read as follows:

[FR Doc. 2020-23078 Filed 10-16-20; 8:45 am]

BILLING CODE 3510-22-C